DEPARTMENT OF ENERGY

Federal Energy Regulatory Commission

Combined Notice of Filings # 1

March 30, 2007.

Take notice that the Commission received the following exempt wholesale generator filings:

Docket Numbers: EG07-44-000.

Applicants: Brush Cogeneration Partners.

Description: Altura Power, LP submits notice of self-certification of exempt wholesale generator status under EG07-14.

Filed Date: 3/28/2007.

Accession Number: 20070330-0018.

Comment Date: 5 p.m. Eastern Time on Wednesday, April 18, 2007.

Take notice that the Commission received the following electric rate filings:

Docket Numbers: ER07-371-001.

Applicants: Southwest Power Pool, Inc.

Description: Southwest Power Pool, Inc. submits its response to FERC's 2/27/07 additional information request regarding a proposal to revise Schedule 2 of its Open Access Transmission Tariff.

Filed Date: 3/29/2007.

Accession Number: 20070330-0013.

Comment Date: 5 p.m. Eastern Time on Thursday, April 19, 2007.

Docket Numbers: ER07-663-000.

Applicants: Conectiv Energy Supply, Inc.

Description: Conectiv Energy Supply, Inc requests authorization to make wholesale power sales to its affiliate Delmarva Power & Light Co under the terms of CESI's market-based rate tariff.

Filed Date: 3/27/2007.

Accession Number: 20070328-0025.

Comment Date: 5 p.m. Eastern Time on Tuesday, April 17, 2007.

Docket Numbers: ER07-665-000.

Applicants: RC Cape May Holdings, LLC.

Description: RC Cape May Holdings, LLC submits a rate schedule that specifies its revenue requirement for providing Reactive Support and Voltage Control from Generation Sources Service.

Filed Date: 3/27/2007.

Accession Number: 20070330-0010.

Comment Date: 5 p.m. Eastern Time on Tuesday, April 17, 2007.

Docket Numbers: ER07-666-000.

Applicants: Midwest Independent Transmission System Operator, Inc.

Description: Midwest Independent Transmission System Operator, Inc submits an executed Small Generator Interconnection Agreement with Hardin Hilltop Wind, LLC et al.

Filed Date: 3/27/2007.

Accession Number: 20070330-0009.

Comment Date: 5 p.m. Eastern Time on Tuesday, April 17, 2007.

Docket Numbers: ER07-668-000.

Applicants: PJM Interconnection, L.L.C.

Description: PJM Interconnection, LLC submits an executed Wholesale Market Participation Agreement with Emporia Hydropower Limited Partnership et al.

Filed Date: 3/28/2007.

Accession Number: 20070329-0069

Comment Date: 5 p.m. Eastern Time on Wednesday, April 18, 2007.

Docket Numbers: ER07-670-000.

Applicants: Entergy Services, Inc.

Description: Entergy Services, Inc acting as agent for the Entergy Operating Companies submits an executed Network Integration Transmission Service Agreement w/Louisiana Energy and Power Authority etc.

Filed Date: 3/28/2007.

Accession Number: 20070330-0021.

Comment Date: 5 p.m. Eastern Time on Wednesday, April 18, 2007.

Docket Numbers: ER07-671-000.

Applicants: Trigen-St. Louis Energy Corporation.

Description: Trigen-St Louis Energy Corporation submits an Application for order granting blanket approvals, proposed market-based rate tariff.

Filed Date: 3/28/2007.

Accession Number: 20070330-0017.

Comment Date: 5 p.m. Eastern Time on Wednesday, April 18, 2007.

Take notice that the Commission received the following electric securities filings:

Docket Numbers: ES07-28-000.

Applicants: PSEG Nuclear LLC; PSEG Fossil LLC; PSEG Energy. Trade & Resources LLC.

Description: PSEG Power Companies submit their request for Blanket Authorization to Issue Securities.

Filed Date: 3/28/2007.

Accession Number: 20070328-5047.

Comment Date: 5 p.m. Eastern Time on Wednesday, April 18, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6332 Filed 4-4-07; 8:45 am]

BILLING CODE 6717-01-P